DEPARTMENT OF AGRICULTURE

Office of the Under Secretary

Notice of Solicitation for Membership to the Forestry Research Advisory Council

AGENCY: Research, Education, and Economics, USDA.

ACTION: Notice of solicitation for membership to the Forestry Research Advisory Council.

SUMMARY: In accordance with the Federal Advisory Committee Act, 5 U.S.C. App 2, the United States Department of Agriculture announces solicitation for nominations to fill eight vacancies on the Forestry Research Advisory Council.

DATES: Nominations must be received on or before February 15, 2003.

ADDRESSES: Cooperative State Research, Education, and Extension Service; U.S. Department of Agriculture; Office of the Forestry Research Advisory Council; Mail Stop 2210; 1400 Independence Avenue, SW., Washington, DC 20250-2210. Nominations delivered by express mail or overnight courier service should be sent to: Office of the Forestry Research Advisory Council; Cooperative State Research, Education, and Extension Service; U.S. Department of Agriculture; Room 3213, Waterfront Centre; 800 9th Street, SW., Washington, DC 20024.

FOR FUTHER INFORMATION CONTACT: Catalino A. Blanche, Designated Federal Officer, Forestry Research Advisory Council; telephone: (202) 401-4190; fax: (202) 401-1706; e-mail: cblanche@reeusda.gov, or Dr. Hao Tran, Staff Assistant, Research and Development, Forest Service; telephone: (202) 205-1293; fax: (202) 205-1530; e-mail: htran@fs.fed.us.

SUPPLEMENTARY INFORMATION: Section 1441 (c) of the Agriculture and Food Act of 1981 requires the establishment of the Forestry Research Advisory Council to provide advice to the Secretary of Agriculture on accomplishing efficiently the purposes of the Act of October 10, 1962 (16 U.S.C. 582a, et seq.), known as the McIntire-Stennis Act of 1962. The Council also provides advice related to the Forest Service research program, authorized by the Forest and Rangeland Resources Research Act of 1978 (Pub. L. 95-307, 92 Stat. 353, as amended; 16 U.S.C. 1600 (note)). The Council is composed of 20 voting members from the following membership categories:

• Federal and State agencies concerned with developing and utilizing the Nation's forest resources, in particular committee membership, will include representation from the National Forest System and Forest and Range Experiment Stations leaders, Forest Service;

• The forest industries;

• The forestry schools of the State certified eligible institutions, and State agricultural experiment stations; and

• Volunteer public groups concerned with forests and related natural resources.

Nomination of members representing the forestry schools will be sent to the Secretary by State-certified eligible forestry schools. This notice does not seek nominations representing those institutions.

The Council membership is appointed with staggered terms of one, two, and three years. As a result of the staggered appointments, the terms of six members expire December 31, 2002. Nominations for a three-year appointment for the six positions and two unfilled positions last year are sought. Nominees will be carefully reviewed for their broad expertise, leadership, and relevancy to a membership category. Nominations for one individual who fits several of the categories, or for more than one person who fits one category will be accepted.

Each nominee must submit and complete a current resume and Form AD-755, Advisory Committee Membership Background Information (which can be obtained from the contact person) and will be vetted before selection. Applicants are strongly encouraged to submit nominations via overnight mail or delivery service to ensure timely receipt by the USDA.

Please indicate the specific membership category for each nominee.

Done at Washington, DC this 24th day of December 2002.
Joseph J. Jen,
Under Secretary, Research, Education, and Economics.

[FR Doc. 03-211 Filed 1-3-03; 8:45 am]

BILLING CODE 3410-02-U